DEPARTMENT OF COMMERCE

National Oceanic and Atmospheric Administration

RIN 0648-XE254

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee will hold a public meeting.

DATES: The meeting will be held on Monday, November 9, 2015 from 1 p.m. to 5 p.m. and on Tuesday, November 10, 2015 from 9 a.m. to 3 p.m. See SUPPLEMENTARY INFORMATION for agenda details.

ADDRESSES: The meeting will be held at the Providence Biltmore, Curio Collection by Hilton, 11 Dorrance Street, Providence, RI 02903; telephone: (401) 421-0700.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council; telephone: (302) 526-5255.

SUPPLEMENTARY INFORMATION: The Mid-Atlantic Fishery Management Council's Summer Flounder, Scup, and Black Sea Bass Monitoring Committee will meet from Monday, November 9 through Tuesday, November 10 (see DATES and ADDRESSES). Topics to be addressed include:

(1) Monitoring Committee recommendations for recreational management measures for the summer flounder, scup, and black sea bass fisheries for the 2016 fishing year;

(2) Possible discussion of Monitoring Committee review of commercial management measures for summer flounder, scup, and black sea bass fisheries, depending on progress made prior to meeting.

A detailed agenda and background documents will be made available on the Council's Web site (www.mafmc.org) prior to the meeting.

Special Accommodations

These meetings are physically accessible to people with disabilities. Requests for sign language interpretation or other auxiliary aid should be directed to M. Jan Saunders, (302) 526-5251, at least 5 days prior to the meeting date.

Dated: October 14, 2015.
Tracey L. Thompson,
Acting Deputy Director, Office of Sustainable Fisheries, National Marine Fisheries Service.

[FR Doc. 2015-26473 Filed 10-16-15; 8:45 am]

BILLING CODE 3510-22-P